DEPARTMENT OF DEFENSE

Office of the Secretary

Defense Business Board; Notice of Federal Advisory Committee Meeting

AGENCY: DoD.

ACTION: Meeting notice.

SUMMARY: The Department of Defense is publishing this notice to announce the following Federal advisory committee meeting of the Defense Business Board. This meeting is open to the public.

DATES: The public meeting of the Defense Business Board (“the Board”) will be held on Thursday, October 22, 2015. The meeting will begin at 1:15 p.m. and end at 2:30 p.m. (Escort required; see guidance in the SUPPLEMENTARY INFORMATION section, “Public's Accessibility to the Meeting.”)

ADDRESSES: Room 3E863 in the Pentagon, Washington, DC (Escort required; See guidance in the SUPPLEMENTARY INFORMATION section, “Public's Accessibility to the Meeting.”)

FOR FURTHER INFORMATION CONTACT: The Board's Designated Federal Officer (DFO) is Ms. Roma Laster, Defense Business Board, 1155 Defense Pentagon, Room 5B1088A, Washington, DC 20301-1155, roma.k.laster.civ@mail.mil, 703-695-7563. For meeting information please contact Mr. Steven Cruddas, Defense Business Board, 1155 Defense Pentagon, Room 5B1088A, Washington, DC 20301-1155, steven.m.cruddas.civ@mail.mil, (703) 697-2168. For submitting written comments or questions to the Board, send via email to mailbox address: osd.pentagon.odam.mbx.defense-business-board@mail.mil.

SUPPLEMENTARY INFORMATION: Due to circumstances beyond the control of the Designated Federal Officer and the Department of Defense, the Defense Business Board was unable to provide public notification of its meeting of October 22, 2105, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140.

Purpose of the Meeting: The Board will hear updates from the Task Groups on “Logistics as a Competitive War Fighting Advantage;” “Creating Virtual Consultancies: Engaging Talent (Innovative Culture Part II;” and “Evaluation of Position of Under Secretary of Defense, Business Management and Information.”

The mission of the Board is to examine and advise the Secretary of Defense on overall DoD management and governance. The Board provides independent advice which reflects an outside private sector perspective on proven and effective best business practices that can be applied to DoD.

Availability of Materials for the Meeting: A copy of the agenda and the terms of reference for each Task Group study may be obtained from the Board's Web site at http://dbb.defense.gov/. Copies will also be available at the meeting.

Meeting Agenda:

1:15 p.m.-1:20 p.m.—Opening remarks

1:20 p.m.-1:35 p.m.—Task Group Update on “Logistics as a Competitive War Fighting Advantage”

1:35 p.m.-1:50 p.m.—Task Group Update on “Creating Virtual Consultancies: Engaging Talent (Innovative Culture Part II)”

1:50 p.m.-2:05 p.m.—Task Group Update on “Evaluation of Position of Under Secretary of Defense, Business Management and Information”

2:05 p.m.-2:15 p.m.—Public Comments (if time permits)

2:15 p.m.-2:30 p.m.—Board Deliberations

Written public comments are strongly encouraged.

Public's Accessibility to the Meeting: Pursuant to FACA and 41 CFR 102-3.140 this meeting is open to the public. Seating is limited and is on a first-come basis. All members of the public who wish to attend the public meeting must contact Mr. Steven Cruddas at the phone number listed in the FOR FURTHER INFORMATION CONTACT section no later than 12 p.m. on Friday, October 16, 2015 to register and make arrangements for a Pentagon escort, if necessary. Public attendees requiring escort should arrive at the Pentagon Metro Entrance with sufficient time to complete security screening no later than 12:45 p.m. on October 22. To complete security screening, please come prepared to present two forms of identification of which one must be a pictured identification card.

Special Accommodations: Individuals requiring special accommodations to access the public meeting should contact Mr. Cruddas at least five (5) business days prior to the meeting so that appropriate arrangements can be made.

Procedures for Providing Public Comments

Pursuant to 41 CFR 102-3.105(j) and 102-3.140, and section 10(a)(3) of the Federal Advisory Committee Act of 1972, the public or interested organizations may submit written comments to the Board about its mission and topics pertaining to this public meeting.

Written comments should be received by the DFO at least five (5) business days prior to the meeting date so that the comments may be made available to the Board for their consideration prior to the meeting. Written comments should be submitted via email to the email address for public comments given in the FOR FURTHER INFORMATION CONTACT section in either Adobe Acrobat or Microsoft Word format. Please note that since the Board operates under the provisions of the Federal Advisory Committee Act, as amended, all submitted comments and public presentations will be treated as public documents and will be made available for public inspection, including, but not limited to, being posted on the Board's Web site.

Dated: October 6, 2015.
Aaron Siegel,
Alternate OSD Federal Register Liaison Officer, Department of Defense.

[FR Doc. 2015-25939 Filed 10-9-15; 8:45 am]

BILLING CODE 5001-06-P